DEPARTMENT OF HEALTH AND HUMAN SERVICES

National Institutes of Health

Proposed Collection; Comment Request; ODS Assessment of Dietary Supplement Education

Summary: Under the provisions of Section 3507(a)(1)(D) of the Paperwork Reduction Act of 1995, the Office of Dietary Supplements (ODS), the National Institutes of Health (NIH), will submit to the Office of Management and Budget (OMB) a request for review and approval of the information collection listed below. A notice of this proposed information collection was previously published in the Federal Register on April 20, 2006, pages 20410 and 20411, and allowed 60 days for public comment. No comments were received in response to the notice. The purpose of this notice is to announce a final 30 days for public comment. NIH may not conduct or sponsor, and the respondent is not required to respond to, an information collection that has been extended, revised, or implemented on or after October 1, 1995, unless it displays a currently valid OMB control number.

Proposed Collection

Title: ODS Assessment of Dietary Supplement Education.

Type of Information Collection Request: New data collection.

Need and Use of Information Collection: The mission of ODS is to strengthen knowledge and understanding of dietary supplements by evaluating scientific information, stimulating and supporting research, disseminating research results, and educating the public to foster an enhanced quality of life and health for the U.S. population. To assist ODS in prioritizing educational and training needs for researchers in the field, ODS is requesting OMB Clearance for a survey of members of academic health institutions. This effort involves a dual method (mail/Web) survey consisting of nine questions (including four two-part questions), which will be attempted with an estimated 2600 individuals at approximately 1000 academic institutions, yielding an annual total of approximately 1820 respondents (based on a 70 percent response rate). The survey results will help ODS in measuring the scope of higher education's curriculum on dietary supplements, identifying gaps in dietary supplement education, and determining the level of interest in potential ODS seminars and programs, and the specific content needs.

Frequency of Response: This is a one-time data collection.

Affected Public: Academic institutions.

Type of Respondents: Faculty members at academic institutions.

The annual reporting burden is as follows.

Type of respondents | Estimated number of respondents | Estimated number of responses per respondent | Average burden hours per response | Estimated total annual burden hours requested
Telephone or Web Survey Completion
Individuals at academic institutions | 1820 | 1 | 0.12 | 218
Review of Course Information for Survey Completion
Individuals at academic institutions | 1820 | 1 | 0.25 | 455
Collection and Submission of Materials
Individuals at academic institutions | 910 | 1 | 0.50 | 455
Annualized totals | 1820 |  |  | 1128

The annualized cost to respondents is estimated at $31,978.86, $6,189.46 for survey completion, and $12,894.70 for the review of course information and collection and submission of materials, respectively.

There are no Capital Costs to report. There are no Operating or Maintenance Costs to report.

Request for Comments: Written comments and/or suggestions from the public and affected agencies are invited on the following points: (1) Whether the proposed collection of information is necessary for the proper performance of the function of the agency, including whether the information will have practical utility; (2) the accuracy of the agency's estimate of the burden of the proposed collection of information, including the validity of the methodology and assumptions; (3) ways to enhance the quality, utility, and clarity of the information to be collected; and (4) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Office of Management and Budget, Office of Regulatory Affairs, New Executive Office Building, Room 10235, Washington, DC 20503, Attention: Desk Officer for NIH. To request more information on the proposed project or to obtain a copy of the data collection plans and instruments, contact: Dr. Paul M. Coates, Director, Office of Dietary Supplements, National Institutes of Health, Suite 3B01, 6100 Executive Boulevard, Bethesda, MD 20892-7517; or fax your request to 301-480-1845; or e-mail ods@nih.gov. Dr. Coates can be contacted by telephone at 301-435-2920.

Comments Due Date: Comments regarding this information collection are best assured of having their full effect if received within 30 days of the date of this publication.

Dated: July 12, 2006.
Paul M. Coates,
Director, Office of Dietary Supplements, National Institutes of Health.

[FR Doc. E6-11613 Filed 7-20-06; 8:45 am]

BILLING CODE 4140-01-P